NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Deputy Associate Administrator, Office Mission Support Directorate, NASA Headquarters, Washington, DC 20546.

FOR FURTHER INFORMATION CONTACT: Cheryl E. Parker, (202) 358-0252.

SUPPLEMENTARY INFORMATION: OMB guidelines dated July 27, 2016, “Fall 2016 Data Call for the Regulatory Plan and Unified Agenda of Federal Regulatory and Deregulatory Actions,” require a regulatory agenda of those regulations under development and review to be published in the Federal Register each spring and fall.

Dated: September 2, 2016.
Daniel Tenney,
Deputy Associate Administrator, Office of the Mission Support Directorate.

National Aeronautics and Space Administration—Final Rule Stage
Sequence No. | Title | Regulation Identifier No.
399 | Processing of Monetary Claims (Section 610 Review) | 2700-AD83

NATIONAL AERONAUTICS AND SPACE ADMINISTRATION (NASA)

Final Rule Stage

399. Processing of Monetary Claims (Section 610 Review)

Legal Authority: 31 U.S.C. sec. 3711

Abstract: NASA is amending its regulations at 14 CFR 1261 to make non-substantive changes in the amount to collect installment payments from $20,000 to $100,000 to align with title 31 subchapter II Claims of the United States Government section 3711(a)(2) Collection and Compromise. Subpart 4 prescribes standards for the administrative collection compromise suspension or termination of collection and referral to the Government Accountability Office (GAO) and/or to the Department of Justice for litigation of civil claims as defined by 31 U.S.C. 3701(b) arising out of the activities of designated NASA officials authorized to effect actions and requires compliance with GAO/DOJ joint regulations at 4 CFR parts 101-105 and the Office of Personnel Management regulations at 5 CFR part 550 subpart K. There are also some statute citation and terminology updates. The revisions to this rule are part of NASA's retrospective plan under Executive Order 13563 completed in August 2011.

Timetable:

Action | Date | FR Cite
Direct Final Rule | 05/00/17 |

Regulatory Flexibility Analysis Required: No.

Agency Contact: Laura Burns, Law Librarian, National Aeronautics and Space Administration, Office of the General Counsel, 300 E Street SW., Washington, DC 20546, Phone: 202 358-2078, Fax: 202 358-4955, Email: laura.burns-1@nasa.gov.

RIN: 2700-AD83

[FR Doc. 2016-29917 Filed 12-22-16; 8:45 am]

BILLING CODE 7510-13-P